DEPARTMENT OF THE TREASURY

Submission for OMB Review; Comment Request

April 2, 2002.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before May 10, 2002 to be assured of consideration.

Customs Service (CUS)

OMB Number: 1515-0068.

Form Number: Customs Form 28.

Type of Review: Extension.

Title: Request for Information.

Description: Customs Form 28 is used by Customs personnel to request additional information from importers when the invoice or other documentation provide insufficient information for Customs to carry out its responsibilities to protect revenues.

Respondents: Business or other for-profit, Individuals or households, Not-for-profit institutions.

Estimated Number of Respondents: 60,000.

Estimated Burden Hours Per Respondent: 30 minutes.

Frequency of Response: On occasion.

Estimated Total Reporting Burden: 60,000 hours.

OMB Number: 1515-0100.

Form Number: None.

Type of Review: Extension.

Title: Customs Regulations Pertaining to Customhouse Brokers.

Description: This information contained in Part III of the Customs Regulations (19 CFR 111) governs the licensing and conduct of Customs brokers in performance of Customs business of others.

Respondents: Business or other for-profit, Individuals or households, Not-for-profit institutions.

Estimated Number of Respondents: 3,800.

Estimated Burden Hours Per Respondent: 3 hours.

Frequency of Response: On occasion.

Estimated Total Reporting Burden: 5,450 hours.

OMB Number: 1515-0106.

Form Number: None.

Type of Review: Extension.

Title: Entry of Articles for Exhibition.

Description: This information is used by Customs to substantiate that the goods imported for exhibit have been approved for entry by Department of Commerce.

Respondents: Business or other for-profit, Individuals or households, Not-for-profit institutions.

Estimated Number of Respondents: 40.

Estimated Burden Hours Per Respondent: 20 minutes.

Frequency of Response: On occasion.

Estimated Total Reporting Burden: 530 hours.

OMB Number: 1515-0209.

Form Number: None.

Type of Review: Extension.

Title: Certificate of Compliance for Turbine Fuel Withdrawals.

Description: This information is collected to ensure regulatory compliance for Turbine Fuel Withdrawals to protect revenue collections.

Respondents: Business or other for-profit, Not-for-profit institutions.

Estimated Number of Respondents: 30.

Estimated Burden Hours Per Respondent: 12 hours.

Frequency of Response: On occasion.

Estimated Total Reporting Burden: 360 hours.

Clearance Officer: Tracey Denning, (202) 927-1429, U.S. Customs Service, Information Services Branch, Ronald Reagan Building, 1300 Pennsylvania Avenue, NW., Room 3.2.C, Washington, DC 20229.

OMB Reviewer: Alexander T. Hunt, (202) 395-7860, Office of Management and Budget, Room 10202, New Executive Office Building, Washington, DC 20503.

Mary A. Able,
Departmental Reports Management Officer.

[FR Doc. 02-8601 Filed 4-9-02; 8:45 am]

BILLING CODE 4820-02-P